DEPARTMENT OF ENERGY

Federal Energy Regulatory Commission

[Docket No. RP01-182-001]

Texas Eastern Transmission Corporation; Notice of Tariff Filing

January 4, 2001.

Take notice that on December 28, 2000, Texas Eastern Transmission Corporation (Texas Eastern) tendered for filing as part of its FERC Gas Tariff, Sixth Revised Volume No. 1, Sub First Revised Sheet No. 456A, to become effective on January 7, 2001.

Texas Eastern states that on December 7, 2000 in Docket No. RP01-182, Texas Eastern submitted for filing as part of its FERC Gas Tariff, Sixth Revised Volume No. 1, revised tariff sheets to be effective on January 7, 2001, which permit customers to request service agreements electronically, to execute such contracts on line via the LINKr System, and modifies certain tariff provisions to expedite the net present value (NPV) contract request and contract execution processes.

Texas Eastern states that a subsequent review of the proposed tariff sheets has revealed that the revisions shown on First Revised Sheet No. 456A did not correctly reflect Texas Eastern's open season proposal as discussed in the last paragraph of page 2 of the December 7, 2000 filing letter. Texas Eastern states that the purpose of this filing is to correct such error by requesting the substitute revised tariff sheet, with a proposed effective date of January 7, 2001, be accepted in lieu of first Revised sheet No. 456A.

Texas Eastern states that a copy of this submission has been faxed to all intervenors in this proceeding to assure timely notice is received of this errata correction and that copies of the filing were mailed to all affected customers and interested state commissions.

Any person desiring to protest said filing should file a protest with the Federal Energy Regulatory commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the commission and are available for public inspection in the Public Reference room. This filing may be viewed on the web at http://www.ferc.fed.us/online/rims.htm (call 202-208-2222 for assistance). Comments and protests may be filed electronically via the internet in lieu of paper. See, 18 CFR 385.2001(a)(1)(iii) and the instructions on the commission's web site at http://www.ferc.fed.us/efi/doorbell.htm.

David P. Boergers,
Secretary.

[FR Doc. 01-644 Filed 1-9-01; 8:45 am]

BILLING CODE 6717-01-M